INTERNATIONAL TRADE COMMISSION

[Investigation Nos. 731-TA-1014, 1016, and 1017 (Second Review)]

Polyvinyl Alcohol From China, Japan, and Korea; Revised Schedule for Full Five-Year Reviews

AGENCY: United States International Trade Commission.

ACTION: Notice.

DATES: Effective Date: March 5, 2015.

FOR FURTHER INFORMATION CONTACT: Mary Messer (202-205-3193), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

SUPPLEMENTARY INFORMATION: Effective November 13, 2014, the Commission established a schedule for the conduct of the subject full five-year reviews (79 FR 69127, November 20, 2014). The Commission revised its schedule effective January 28, 2015 (80 FR 6546, February 5, 2015). On March 4, 2015, counsel for the domestic interested parties filed a request that the Commission cancel the hearing. Counsel indicated a willingness to submit written testimony and responses to any Commission questions in lieu of an actual hearing and, in the alternative, counsel submitted a list of witnesses who would appear at the hearing. No other party filed a timely request to appear at the hearing. Consequently, the public hearing in connection with these reviews, scheduled to begin at 9:30 a.m. on March 10, 2015, at the U.S. International Trade Commission Building, is cancelled. The Commission determined that no earlier announcement of this cancellation was possible. Parties to these reviews should respond to any written questions posed by the Commission in their posthearing briefs, which are due to be filed on March 18, 2015.

For further information concerning these reviews see the Commission's notices cited above and the Commission's Rules of Practice and Procedure, part 201, subparts A through E (19 CFR part 201), and part 207, subparts A, D, E, and F (19 CFR part 207).

Authority: These reviews are being conducted under authority of title VII of the Tariff Act of 1930; this notice is published pursuant to section 207.62 of the Commission's rules.

By order of the Commission.
Issued: March 6, 2015.
Lisa R. Barton,
Secretary to the Commission.

[FR Doc. 2015-05599 Filed 3-11-15; 8:45 am]

BILLING CODE 7020-02-P